DEPARTMENT OF ENERGY

Federal Energy Regulatory Commission

[Docket Nos. CP17-117-000; CP17-118-000]

Driftwood LNG LLC; Driftwood Pipeline; LLC Notice of Availability of the Draft Environmental Impact Statement for the Proposed Driftwood LNG Project

The staff of the Federal Energy Regulatory Commission (FERC or Commission) has prepared a draft environmental impact statement (EIS) for the Driftwood LNG and Pipeline Projects (Project). Driftwood LNG LLC and Driftwood Pipeline LLC, collectively Driftwood, request authorization (FERC Docket Nos. CP17-117-000 and CP17-118-000) to site, construct, and operate liquefied natural gas (LNG) export facilities and certain interstate, natural gas transmission pipeline facilities in Evangeline, Acadia, Jefferson Davis, and Calcasieu Parishes, Louisiana. The Project would provide gas and processing to produce up to 26 million tonnes per annum of LNG for export.

The draft EIS assesses the potential environmental effects of the construction and operation of the Driftwood LNG Project in accordance with the requirements of the National Environmental Policy Act (NEPA). The FERC staff concludes that approval of the Project would result in adverse impacts on the environment. However, with the exception of the visual impact on the nearby Driftwood Community which we conclude would be significant, impacts on the environment would be reduced to acceptable levels with the implementation of Driftwood's proposed impact avoidance, minimization, and mitigation measures and the additional measures recommended by staff in the draft EIS.

The U.S. Environmental Protection Agency, the U.S. Army Corps of Engineers, U.S. Coast Guard, U.S. Department of Energy, and the U.S. Department of Transportation participated as cooperating agencies in the preparation of the EIS. Cooperating agencies have jurisdiction by law or special expertise with respect to resources potentially affected by the proposal and participate in the NEPA analysis.

The draft EIS addresses the potential environmental effects of the construction and operation of the following project facilities:

• Five LNG plants (each plant consists of one gas pre-treatment unit, one condensation stabilization unit, and four heavy hydrocarbon removal and liquefaction units);

• three LNG storage tanks;

• three marine berths capable of accommodating LNG carriers of up to 216,000 cubic meters each;

• 74 miles of 48-inch-diameter pipeline, 10.6 miles of 42-inch-diameter pipeline, and 11.3 miles of 36-inch-diameter pipeline; one 3.4-mile-long, 30-inch-diameter lateral pipeline collocated with the mainline pipeline;

• three compressor stations providing a total of approximately 275,000 horsepower of compression; and

• six pig launchers and receiver facilities,¹ 15 meter stations, and 17 mainline valves.

¹ A pig is an internal tool that can be used to clean and dry a pipeline and/or to inspect it for damage or corrosion.

The Commission mailed a copy of the Notice of Availability to federal, state, and local government representatives and agencies; elected officials; environmental and public interest groups; Native American tribes; potentially affected landowners and other interested individuals and groups; and newspapers and libraries in the project area. The draft EIS is only available in electronic format. It may be viewed and downloaded from the FERC's website (www.ferc.gov), on the Environmental Documents page (https://www.ferc.gov/industries/gas/enviro/eis.asp). In addition, the draft EIS may be accessed by using the eLibrary link on the FERC's website. Click on the eLibrary link (https://www.ferc.gov/docs-filing/elibrary.asp), click on General Search, and enter the docket number in the “Docket Number” field, excluding the last three digits (i.e., CP17-117 or CP17-118). Be sure you have selected an appropriate date range. For assistance, please contact FERC Online Support at FercOnlineSupport@ferc.gov or toll free at (866) 208-3676, or for TTY, contact (202) 502-8659.

Any person wishing to comment on the draft EIS may do so. Your comments should focus on the draft EIS's disclosure and discussion of potential environmental effects, reasonable alternatives, and measures to avoid or lessen environmental impacts. The more specific your comments, the more useful they will be. To ensure consideration of your comments on the proposal in the final EIS, it is important that the Commission receive your comments on or before 5 p.m. Eastern Time on November 5, 2018.

For your convenience, there are four methods you can use to submit your comments to the Commission. The Commission will provide equal consideration to all comments received, whether filed in written form or provided verbally. The Commission encourages electronic filing of comments and has staff available to assist you at (866) 208-3676 or FercOnlineSupport@ferc.gov. Please carefully follow these instructions so that your comments are properly recorded.

(1) You can file your comments electronically using the eComment feature on the Commission's website (www.ferc.gov) under the link to Documents and Filings. This is an easy method for submitting brief, text-only comments on the Project;

(2) You can file your comments electronically by using the eFiling feature on the Commission's website (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the Project docket numbers (CP17-117-000 and CP17-118-000) with your submission: Kimberly D. Bose, Secretary, Federal Energy Regulatory Commission, 888 First Street NE, Room 1A, Washington, DC 20426.

(4) In lieu of sending written or electronic comments, the Commission invites you to attend one of the public comment sessions its staff will conduct in the project area to receive comments on the draft EIS, scheduled as follows:

Date and time | Location
Tuesday, October 9 (5 p.m.-7 p.m. CST) | Seven Clans Hotel, 797 Coushatta Drive, Kinder, LA 20648 (800)-584-7263.
Wednesday, October 10 (5 p.m.-7 p.m. CST) | Holiday Inn Opelousas, 5696O-49 North Service Road, Opelousas, LA 70570 (337)-407-0004.
Thursday, October 11 (5 p.m.-7 p.m. CST) | West Cal Event Center, 401 Arena Road, Sulphur, LA 70665 (337)-528-9378.

The primary goal of these comment sessions is to have you identify the specific environmental issues and concerns with the draft EIS. Individual verbal comments will be taken on a one-on-one basis with a court reporter. This format is designed to receive the maximum amount of verbal comments, in a convenient way during the timeframe allotted.

Each comment session is scheduled from 5 p.m. to 7 p.m. CST. You may arrive at any time after 5 p.m. There will not be a formal presentation by Commission staff when the session opens. If you wish to speak, the Commission staff will hand out numbers in the order of your arrival. Comments will be taken until 7 p.m. However, if no additional numbers have been handed out and all individuals who wish to provide comments have had an opportunity to do so, staff may conclude the session at 6:30 p.m.

Your verbal comments will be recorded by the court reporter (with FERC staff or representative present) and become part of the public record for this proceeding. Transcripts will be publicly available on FERC's eLibrary system (see below for instructions on using eLibrary). If a significant number of people are interested in providing verbal comments in the one-on-one settings, a time limit of 5 minutes may be implemented for each commentor.

It is important to note that verbal comments hold the same weight as written or electronically submitted comments. Although there will not be a formal presentation, Commission staff will be available throughout the comment session to answer your questions about the environmental review process.

Any person seeking to become a party to the proceeding must file a motion to intervene pursuant to Rule 214 of the Commission's Rules of Practice and Procedures (18 CFR 385.214). Motions to intervene are more fully described at http://www.ferc.gov/resources/guides/how-to/intervene.asp. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the Projects is available from the Commission's Office of External Affairs, at (866) 208-FERC, or on the FERC (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: September 14, 2018.
Nathaniel J. Davis, Sr.,
Deputy Secretary.

[FR Doc. 2018-20552 Filed 9-20-18; 8:45 am]

BILLING CODE 6717-01-P